DEPARTMENT OF DEFENSE

Defense Acquisition Regulations System

48 CFR Parts 215, 242, and 252

RIN 0750-AI20

Defense Federal Acquisition Regulation Supplement; Business Systems Compliance (DFARS Case 2012-D042)

AGENCY: Defense Acquisition Regulations System, Department of Defense (DoD).

ACTION: Proposed rule; correction.

SUMMARY: This document corrects the preamble to a proposed rule published in the Federal Register on July 15, 2014, regarding Business Systems Compliance. This correction revises the time scheduled for the public meeting to be held on August 18, 2014. There are no other changes.

FOR FURTHER INFORMATION CONTACT: Mr. Mark Gomersall, telephone 571-372-6099.

Correction

In the proposed rule published at 79 FR 41172, dated July 15, 2014, make the following correction to the Public Meeting Date section.

Public Meeting Date: The public meeting will be held at the Mark Center Auditorium, 4800 Mark Center Drive, Alexandria, VA 22350-3603, on August 18, 2014, from 2 p.m. to 5 p.m., local time.

Amy G. Williams,
Deputy, Defense Acquisition Regulations System.

[FR Doc. 2014-17216 Filed 7-21-14; 8:45 am]

BILLING CODE 5001-06-P